DEPARTMENT OF AGRICULTURE

Food Safety and Inspection Service

[Docket No. FSIS-2010-0046]

Codex Alimentarius Commission: Meeting of the Codex Committee on Contaminants in Food

AGENCY: Office of the Under Secretary for Food Safety, USDA.

ACTION: Notice of public meeting and request for comments.

SUMMARY: The Office of the Under Secretary for Food Safety, U.S. Department of Agriculture (USDA), and the Food and Drug Administration (FDA), U.S. Department of Health and Human Services, are sponsoring a public meeting on February 22, 2011. The objective of the public meeting is to provide information and receive public comments on agenda items and draft United States (U.S.) positions that will be discussed at the 5th Session of the Codex Committee on Contaminants in Food (CCCF) of the Codex Alimentarius Commission (Codex), which will be held in The Hague, The Netherlands, March 21-25, 2011. The Under Secretary for Food Safety and FDA recognize the importance of providing interested parties the opportunity to obtain background information on the 5th Session of the CCCF and to address items on the agenda.

DATES: The public meeting is scheduled for Tuesday, February 22, 2011, from 1 to 3 p.m.

ADDRESSES: The public meeting will be held at the Harvey W. Wiley Federal Building, Room 1A-001, FDA, Center for Food Safety and Applied Nutrition (CFSAN), 5100 Paint Branch Parkway, College Park, MD 20740. Documents related to the 5th Session of the CCCF will be accessible via the World Wide Web at the following address: http://www.codexalimentarius.net/current.asp. Nega Beru, PhD, the U.S. Delegate to the 5th Session of the CCCF, invites interested U.S. parties to submit their comments electronically to the following e-mail address: henry.kim@fda.hhs.gov.

Registration: Attendees may register electronically at the same e-mail address provided above by February 18, 2011. The meeting will be held in a Federal building, therefore, early registration is encouraged as it will expedite entry into the building and its parking area. You should also bring photo identification and plan for adequate time to pass through security screening systems. If you require parking, please include the vehicle make and tag number when you register. Attendees that are not able to attend the meeting in-person but wish to participate may do so by phone.

Call-In Number: If you wish to participate in the public meeting for the 5th Session of the CCCF by conference call, please use the call-in number and participant code listed below:

Call-in Number: 1-866-692-3158.

Participant Code: 5986642.

For Further Information About the 5th Session of the CCCF Contact: Henry Kim, Ph.D., Office of Food Safety, CFSAN/FDA, HFS-317, 5100 Paint Branch Parkway, College Park, MD 20740. Telephone: (301) 436-2023, Fax: (301) 436-2651, e-mail: henry.kim@fda.hhs.gov.

For Further Information About the Public Meeting Contact: Barbara McNiff, U.S. Codex Office, 1400 Independence Avenue, SW., Room 4870, Washington, DC 20250. Telephone: (202) 690-4719, Fax: (202) 720-3157, e-mail: barbara.mcniff@fsis.usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in the food trade.

The CCCF establishes or endorses permitted maximum levels of contaminants, and where necessary revises existing guidelines for contaminants and naturally occurring toxicants in food and feed; prepares priority lists of contaminants and naturally occurring toxicants for risk assessment by the Joint FAO/WHO Expert Committee on Food Additives (JECFA); considers and elaborates methods of analysis and sampling for the determination of contaminants and naturally occurring toxicants in food and feed; considers and elaborates standards or codes of practice for related subjects; and considers other matters assigned to it by Codex in relation to contaminants and naturally occurring toxicants in food and feed.

The Committee is chaired by The Netherlands.

Issues To Be Discussed at the Public Meeting

The following items on the agenda for the 5th Session of the CCCF will be discussed during the public meeting:

• Matters Referred to the CCCF by Codex and other Codex Committees and Task Forces.

• Matters of Interest Arising from FAO and WHO (including JECFA).

• Matters of Interest Arising from other International Organizations—International Atomic Energy Agency

• Proposed Draft Code of Practice for the Reduction of Ethyl Carbamate in Stone Fruit Distillates.

• Proposed Draft Maximum Levels for Melamine in Food (Liquid infant formula).

• Proposed Draft Maximum Levels for Deoxynivalenol and its Acetylated Derivatives in Cereals and Cereal-based Products.

• Proposed Draft Maximum Levels for Total Aflatoxins in Dried Figs.

• Editorial Amendments to the General Standard for Contaminants and Toxins in Foods and Feeds.

• Discussion Paper on Mycotoxins in Sorghum.

• Discussion Paper on Arsenic in Rice.

• Discussion Paper on Guidance for Risk Management. Options on How to Deal with the Results from New Risk Assessment Methodologies.

• Discussion Paper on Ochratoxin A in Cocoa.

• Discussion Paper on Furan.

• Discussion Paper on Pyrrolizidine Alkaloids.

• Endorsement of Provisions for Health-related Limits for Certain Substances in the Standard for Natural Mineral Waters.

• Priority List of Contaminants and Naturally Occurring Toxicants Proposed for Evaluation by JECFA.

Each issue listed will be fully described in documents distributed, or to be distributed, by the Secretariat prior to the meeting. Members of the public may access these documents (see ADDRESSES).

Public Meeting

At the February 22, 2011, public meeting, draft U.S. positions on the agenda items will be described and discussed, and attendees will have the opportunity to pose questions and offer comments. Written comments may be offered at the meeting or sent to Dr. Henry Kim for the 5th Session of the CCCF (see ADDRESSES). Written comments should state that they relate to activities of the 5th Session of the CCCF.

USDA Nondiscrimination Statement

USDA prohibits discrimination in all its programs and activities on the basis of race, color, national origin, gender, religion, age, disability, political beliefs, sexual orientation, and marital or family status. (Not all prohibited bases apply to all programs.)

Persons with disabilities who require alternative means for communication of program information (Braille, large print, audiotape, etc.) should contact USDA's Target Center at (202) 720-2600 (voice and TTY).

To file a written complaint of discrimination, write USDA, Office of the Assistant Secretary for Civil Rights, 1400 Independence Avenue, SW., Washington, DC 20250-9410 or call (202) 720-5964 (voice and TTY). USDA is an equal opportunity provider and employer.

Additional Public Notification

Public awareness of all segments of rulemaking and policy development is important. Consequently, in an effort to ensure that the public and in particular minorities, women, and persons with disabilities, are aware of this notice, FSIS will announce it on-line through the FSIS Web page located at http://www.fsis.usda.gov/regulations_&_policies/Federal_Register_Notices/index.asp.

FSIS also will make copies of this Federal Register publication available through the FSIS Constituent Update, which is used to provide information regarding FSIS policies, procedures, regulations, Federal Register notices, FSIS public meetings, and other types of information that could affect or would be of interest to our constituents and stakeholders. The Update is communicated via Listserv, a free e-mail subscription service consisting of industry, trade, and farm groups, consumer interest groups, allied health professionals, scientific professionals, and other individuals who have requested to be included. The Update also is available on the FSIS Web page. Through Listserv and the Web page, FSIS is able to provide information to a much broader, more diverse audience. In addition, FSIS offers an e-mail subscription service which provides automatic and customized access to selected food safety news and information. This service is available at http://www.fsis.usda.gov/News_&_Events/Email_Subscription/. Options range from recalls, export information, regulations, directives, and notices. Customers can add or delete subscriptions themselves, and have the option to password protect their accounts.

Done at Washington, DC, on February 4, 2011.
Karen Stuck,
U.S. Manager for Codex Alimentarius.

[FR Doc. 2011-3362 Filed 2-14-11; 8:45 am]

BILLING CODE 3410-DM-P